DEPARTMENT OF AGRICULTURE

Agricultural Marketing Service

[Docket # AMS-FV-2007-0003; FV-06-307]

United States Standards for Grades of Mushrooms

AGENCY: Agricultural Marketing Service, USDA.

ACTION: Notice; withdrawal.

SUMMARY: The Agricultural Marketing Service (AMS) is withdrawing the notice soliciting comments on its proposal to amend the voluntary United States Standards for Grades of Mushrooms. After reviewing and considering the comments received, the Agency has decided not to proceed with this action.

EFFECTIVE DATE: February 5, 2007.

FOR FURTHER INFORMATION CONTACT: Vincent J. Fusaro, Standardization Section, Fresh Products Branch, Fruit and Vegetable Programs, Agricultural Marketing Service, U.S. Department of Agriculture, (202) 720-2185.

Background

At a meeting with the Fruit and Vegetable Industry Advisory Committee, AMS was asked to review all the fresh fruit and vegetable grade standards for their usefulness in serving the industry. AMS had identified the United States Standards for Grades of Mushrooms for a possible revision. The United States Standards for Grades of Mushrooms were last amended July 15, 1966.

On May 26, 2006, a notice requesting comments on the possible revision of the standards to allow the standards to be used for open veil types of mushrooms; include small, medium, and large size classifications for open veil types of mushrooms; revise the current size classifications (small to medium and large) as well as an addition of a button and jumbo size for the closed veil types of mushrooms; and eliminate the unclassified category was published in the Federal Register (71 FR 30366) with the comment period ending July 25, 2006.

Two comments were received during the official period for comment. One comment from a consumer raised a number of concerns, including establishing new standards for fungi for consumption. Another comment from a national trade association representing domestic growers, buyer/shippers and processors of mushrooms, and those who provide services to the mushroom industry did not support revising the standard, stating that there was no consensus among growers, shippers, or customers as to industry-wide terms such as button, small, medium, large, or jumbo. This comment also questioned the use of the term “open veiled” and whether all such varieties would be covered by the proposed standards. Developing new standards for fungi for consumption is beyond the scope of what AMS proposed. Further, given the comment concerning the lack of consensus among the industry concerning the size terminology, we believe that the standards should not be changed at this time.

After reviewing and considering the comments received, the Agency has decided not to proceed with the action. Therefore, the notice published May 26, 2006, (71 FR 30366) is withdrawn.

Authority: 7 U.S.C. 1621-1627.

Dated: January 30, 2007.
Lloyd C. Day,
Administrator, Agricultural Marketing Service.

[FR Doc. E7-1761 Filed 2-2-07; 8:45 am]

BILLING CODE 3410-02-P